DEPARTMENT OF COMMERCE

National Oceanic and Atmospheric Administration

Meeting of the Advisory Committee on Commercial Remote Sensing

ACTION: Notice of meeting.

SUMMARY: The Advisory Committee on Commercial Remote Sensing (“ACCRES” or “the Committee”) will meet April 3, 2018.

DATES: The meeting is scheduled as follows: April 3, 2018, 9:00 a.m.-4:00 p.m. There will be a one hour lunch break from 12:15 p.m.-1:15 p.m.

ADDRESSES: The meeting will be held at the Silver Spring Civic Center—The Spring Room, 1 Veterans Place, Silver Spring, MD 20910.

FOR FURTHER INFORMATION CONTACT: Samira Patel, NOAA/NESDIS/CRSRA, 1335 East West Highway, G-101, Silver Spring, Maryland 20910; (301) 713-7077 or samira.patel@noaa.gov.

SUPPLEMENTARY INFORMATION: As required by Section 10(a)(2) of the Federal Advisory Committee Act, 5 U.S.C. App. 2 (FACA) and its implementing regulations, see 41 CFR 102-3.150, notice is hereby given of the meeting of ACCRES. ACCRES was established by the Secretary of Commerce (Secretary) on May 21, 2002, to advise the Secretary of Commerce through the Under Secretary of Commerce for Oceans and Atmosphere on matters relating to the U.S. commercial remote sensing space industry and on the National Oceanic and Atmospheric Administration's activities to carry out the responsibilities of the Department of Commerce set forth in the National and Commercial Space Programs Act of 2010 (51 U.S.C. 60101 et seq.).

Purpose of the Meeting and Matters To Be Considered

The meeting will be open to the public pursuant to Section 10(a)(1) of the FACA. During the meeting, the Committee will receive updates on NOAA's Commercial Remote Sensing Regulatory Affairs activities and discuss updates to the commercial remote sensing regulatory regime. The Committee will also discuss updates in the regulations and new technological activities in space. The Committee will be available to receive public comments on its activities.

Special Accommodations

The meeting is physically accessible to people with disabilities. Requests for special accommodations may be directed to Samira Patel, NOAA/NESDIS/CRSRA, 1335 East West Highway, G-101, Silver Spring, Maryland 20910; (301) 713-7077 or samira.patel@noaa.gov.

Additional Information and Public Comments

Any member of the public who plans to attend the open meeting should RSVP to Samira Patel at (301) 713-7077, or samira.patel@noaa.gov by March 27, 2018. Any member of the public wishing further information concerning the meeting or who wishes to submit oral or written comments should contact Tahara Dawkins, Designated Federal Officer for ACCRES, NOAA/NESDIS/CRSRA, 1335 East West Highway, G-101, Silver Spring, Maryland 20910; (301) 713-3385 or tahara.dawkins@noaa.gov. Copies of the draft meeting agenda can be obtained from Samira Patel at (301) 713-7077, or samira.patel@noaa.gov.

ACCRES expects that public statements presented at its meetings will not be repetitive of previously-submitted oral or written statements. In general, each individual or group making an oral presentation may be limited to a total time of five minutes. Written comments sent to NOAA/NESDIS/CRSRA on or before March 27, 2018 will be provided to Committee members in advance of the meeting. Comments received too close to the meeting date will normally be provided to Committee members at the meeting.

Tahara Dawkins,
Director, Commercial Remote Sensing Regulatory Affairs.

[FR Doc. 2018-05360 Filed 3-15-18; 8:45 am]

BILLING CODE 3510-HR-P